DEPARTMENT OF HEALTH AND HUMAN SERVICES

Centers for Disease Control and Prevention

[30Day-13-0604]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

School Associated Violent Death Surveillance System (0920-0604, Expiration 1/31/2013)—Reinstatement with change—National Center for Injury Prevention and Control (NCIPC), Centers for Disease Control and Prevention (CDC).

Background and Brief Description

The Division of Violence Prevention (DVP), National Center for Injury Prevention and Control (NCIPC) proposes to maintain a system for the surveillance of school-associated homicides and suicides; the system relies on existing public records and interviews with law enforcement officials and school officials. The purpose of the system is to (1) estimate the rate of school-associated violent death in the United States and (2) identify common features of school-associated violent deaths. The system will contribute to the understanding of fatal violence associated with schools, guide further research in the area, and help direct ongoing and future prevention programs.

School-associated violent deaths (SAVD) is an ongoing surveillance system that draws cases from the entire United States in attempting to capture all cases of school-associated violent deaths that have occurred. Investigators review public records and published press reports concerning each school-associated violent death. For each identified case, investigators also interview an investigating law enforcement official (defined as a police officer, police chief, or district attorney), and a school official (defined as a school principal, school superintendent, school counselor, school teacher, or school support staff) who are knowledgeable about the case in question. Respondents will only be interviewed once. Researchers request information on both the victim and alleged offender(s)—including demographic data, their academic and criminal records, and their relationship to one another. Data are also collected on the time and location of the death; the circumstances, motive, and method of the fatal injury; and the security and violence prevention activities in the school and community where the death occurred, before and after the fatal injury event.

The revisions to this data collection involve changes to the data collection instruments that will enhance the scope or relevance of the information previously collected, and changes that will reflect recent advancements and developments in research addressing violence in school settings. There has also been an additional measure added which will further strengthen the data security processes.

There are no costs to the respondents other than their time. The total estimated annual burden hours are 70.

Estimated Annualized Burden Hours
Type of respondents | Form name | Number of respondents | Number of responses per respondent | Average burden per response (in hours)
School Officials | School CATI Interview | 35 | 1 | 1
Police Officials | Law Enforcement CATI Interview | 35 | 1 | 1

Dated: February 14, 2013.
Ron A. Otten,
Director, Office of Scientific Integrity (OSI), Office of the Associate Director for Science (OADS), Office of the Director, Centers for Disease Control and Prevention.

[FR Doc. 2013-04048 Filed 2-21-13; 8:45 am]

BILLING CODE 4163-18-P